DEPARTMENT OF COMMERCE

National Oceanic and Atmospheric Administration

RIN 0648-XF861

Endangered Species; File Nos. 21198 and 21434

AGENCY: National Marine Fisheries Service (NMFS), National Oceanic and Atmospheric Administration (NOAA), Commerce.

ACTION: Notice; receipt of applications.

SUMMARY: Notice is hereby given that the U.S. Fish and Wildlife Service (USFWS), Southeast Regional Office, Century Boulevard, Atlanta, GA 30602 [Responsible Party: Allan Brown], has applied in due form for a permit [File No. 21198] to take captive shortnose sturgeon (Acipenser brevirostrum) and Atlantic sturgeon (Acipenser oxyrinchus oxyrinchus) for purposes of scientific research and enhancement. Additionally the Maryland Department of Natural Resources, Cooperative Oxford Laboratory, 904 South Morris Street, Oxford, Maryland 21654 [Responsible Party: Brian Richardson], has applied in due form for a permit [File No. 21434] to take captive Atlantic sturgeon for purposes of conducting scientific research and enhancement.

DATES: Written, telefaxed, or email comments must be received on or before January 8, 2018.

ADDRESSES: The applications and related documents are available for review by selecting “Records Open for Public Comment” from the “Features” box on the Applications and Permits for Protected Species (APPS) home page, https://apps.nmfs.noaa.gov, and then selecting File Nos. 21198 or 21434 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application(s) would be appropriate.

FOR FURTHER INFORMATION CONTACT: Malcolm Mohead or Erin Markin at (301) 427-8401.

SUPPLEMENTARY INFORMATION: The subject permits are requested under the authority of the Endangered Species Act of 1973, as amended (ESA; 16 U.S.C. 1531 et seq.) and the regulations governing the taking, importing, and exporting of endangered and threatened species (50 CFR parts 222-226).

File No. 21198: Researchers with the USFWS propose to use existing captive populations of shortnose and Atlantic sturgeon to conduct research facilitating the development of new methods needed for achieving species recovery in facilities located in the Southeast Region of the USFWS. Research would include nutrition, physiology, nutrition, propagation, contaminants, genetics, fish health, cryopreservation, tagging, refugia, and collaborative research with others. Additional objectives would include collaborative research and public display at other satellite facilities on the permit. The permit would be valid for ten years from the date of issuance.

File No. 21434: Researchers at the Maryland Department of Natural Resources and cooperating researchers (e.g., University of Maryland and other collaborators) propose objectives for conducting research and public display on captive Atlantic sturgeon. Researchers propose developing reliable culture techniques, minimizing or eliminating the use of wild fish and impacts on non-target species. Research projects are to include fish physiology, fish culture, behavioral studies, tagging, fish nutrition, propagation methods, genetics, cryopreservation, refinement of anesthetization technology, and refugia as needed for management priorities. Additional objectives would include collaborative research and public display at other satellite facilities on the permit. The permit would be valid for ten years from the date of issuance.

Dated: December 5, 2017.
Julia Harrison,
Chief, Permits and Conservation Division, Office of Protected Resources, National Marine Fisheries Service.

[FR Doc. 2017-26493 Filed 12-7-17; 8:45 am]

BILLING CODE 3510-22-P